DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee

February 22, 2013 (9:00 a.m.-12:00 p.m.)

This meeting will be held at the Windsor Court Hotel, 300 Gravier Street, New Orleans, LA 70130.

The discussions may address matters at issue in the following proceedings:

Docket No. OA07-32 | Entergy Services, Inc.
Docket No. EL00-66 | Louisiana Public Service Commission v. Entergy Services, Inc.
Docket No. EL01-88 | Louisiana Public Service Commission v. Entergy Services, Inc.
Docket No. EL09-50 | Louisiana Public Service Commission v. Entergy Services, Inc.
Docket No. EL09-61 | Louisiana Public Service Commission v. Entergy Services, Inc.
Docket No. EL10-55 | Louisiana Public Service Commission v. Entergy Services, Inc.
Docket No. EL10-65 | Louisiana Public Service Commission v. Entergy Services, Inc.
Docket No. EL11-34 | Midwest Independent System Transmission Operator, Inc.
Docket No. EL11-63 | Louisiana Public Service Commission v. Entergy Services, Inc.
Docket No. ER05-1065 | Entergy Services, Inc.
Docket No. ER07-682 | Entergy Services, Inc.
Docket No. ER07-956 | Entergy Services, Inc.
Docket No. ER08-1056 | Entergy Services, Inc.
Docket No. ER10-1350 | Entergy Services, Inc.
Docket No. ER10-1676 | Entergy Services, Inc.
Docket No. ER10-3357 | Entergy Arkansas, Inc.
Docket No. ER11-3156 | Entergy Arkansas, Inc.
Docket No. ER12-480 | Midwest Independent Transmission System Operator, Inc.
Docket No. ER12-1303 | Entergy Arkansas, Inc.
Docket No. ER12-2681 | Entergy Arkansas, Inc.
Docket No. ER12-2682 | Entergy Arkansas, Inc.
Docket No. ER12-2683 | Entergy Arkansas, Inc.
Docket No. ER12-2693 | Entergy Arkansas, Inc.
Docket No. EL13-41 | Occidental Chemical Corporation v. Midwest Independent Transmission System Operator, Inc.
Docket No. EL13-43 | Petition for Declaratory Order of Council of the City of New Orleans, Louisiana, Mississippi Public Service Commission and the Arkansas Public Service Commission.
Docket No. ER13-84 | Cleco Power LLC.
Docket No. ER13-95 | Entergy Arkansas, Inc.
Docket No. ER13-432 | Entergy Arkansas, Inc.
Docket No. ER13-665 | Midwest Independent Transmission System Operator, Inc.
Docket No. ER13-708 | Midwest Independent Transmission System Operator, Inc.
Docket No. ER13-782 | ITC Arkansas, LLC.

These meetings are open to the public.

For more information, contact Patrick Clarey, Office of Energy Market Regulation, Federal Energy Regulatory Commission at (317) 249-5937 or patrick.clarey@ferc.gov.

Dated: February 13, 2013.
Kimberly D. Bose,
Secretary.

[FR Doc. 2013-03814 Filed 2-19-13; 8:45 am]

BILLING CODE 6717-01-P